DEPARTMENT OF LABOR

Employment and Training Administration

[TA-W-63,155]

Amphenol-TCS a Subsidiary of Amphenol Corporation Including On-Site Temporary Workers From Microtech and Triton Staffing Nashua, NH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on May 12, 2008, applicable to workers of Amphenol-TCS, a subsidiary of Amphenol Corporation, Nashua, New Hampshire. The notice was published in the Federal Register on May 29, 2008 (73 FR 30977).

At the request of the State agency, the Department reviewed the certification for workers of the subject firm. The workers are engaged in the production of electronic connectors and backplane assemblies. The workers are separately identifiable by articles produced.

New information shows that temporary workers from Microtech and Triton Staffing were employed on-site at the Nashua, New Hampshire location of Amphenol-TCS, a subsidiary of Amphenol Corporation. The Department has determined that these workers were sufficiently under the control of the subject firm to be considered temporary workers.

Based on these findings, the Department is amending this certification to include temporary workers from Microtech and Triton Staffing working on-site at the Cleveland, Ohio location of the subject firm.

The intent of the Department's certification is to include all workers employed at Amphenol-TCS, a subsidiary of Amphenol Corporation who were adversely affected by a shift in production of backplane assemblies to Mexico.

The amended notice applicable to TA-W-63,155 is hereby issued as follows:

“All workers of Amphenol-TCS, a subsidiary of Amphenol Corporation, including on-site temporary workers from Microtech and Triton Staffing, engaged in the production of backplane assemblies, Nashua, New Hampshire, who became totally or partially separated from employment on or after March 11, 2007, through May 12, 2010, are eligible to apply for adjustment assistance under Section 223 of the Trade Act of 1974, and are also eligible to apply for alternative trade adjustment assistance under Section 246 of the Trade Act of 1974.”

Signed at Washington, DC this 27th day of June 2008.
Linda G. Poole,
Certifying Officer, Division of Trade Adjustment Assistance.

[FR Doc. E8-15865 Filed 7-11-08; 8:45 am]

BILLING CODE 4510-FN-P